DEPARTMENT OF TRANSPORTATION

Federal Highway Administration

Notice of Final Federal Agency Actions on Proposed Highway in Idaho

AGENCY: Federal Highway Administration (FHWA), Department of Transportation (DOT).

ACTION: Notice of limitation on claims for judicial review of actions by FHWA.

SUMMARY: This notice announces actions taken by the FHWA. The actions relate to a proposed highway project, US 20/26 Corridor Study, Junction I-84 to Eagle Road in Ada and Canyon Counties in the State of Idaho, FHWA Project Number STP-3230(106), Idaho Transportation Department (ITD) Key Number 07826.

DATES: By this notice, the FHWA is advising the public of final agency actions subject to 23 U.S.C. 139(l)(1). A claim seeking judicial review of the Federal agency actions on the highway project will be barred unless the claim is filed on or prior to May 11, 2018. If the Federal law that authorizes judicial review of a claim provides a time period of less than 150 days for filing such claim, then that shorter time period still applies.

FOR FURTHER INFORMATION CONTACT: For FHWA: Mr. Peter Hartman, Division Administrator, Federal Highway Administration, 3050 Lake Harbor Lane Suite 126, Boise, Idaho 83703; telephone: (208) 334-9180; email: Idaho.FHWA@dot.gov. The FHWA Idaho Division Office's normal business hours are 7:00 a.m. to 4:30 p.m. (Mountain Standard Time), Monday through Friday, except Federal Holidays. For ITD: Ms. Sue Sullivan, Environmental Section Manager, Idaho Transportation Department, 3311 W State St., P.O. Box 7129, Boise, ID 83707-1129 (208) 334-8203. Normal business hours are 8:00 a.m. to 5:00 p.m. (Mountain Standard Time), Monday through Friday, except Federal Holidays.

SUPPLEMENTARY INFORMATION: Effective October 30, 2017, the Federal Highway Administration (FHWA) assumed environmental responsibilities for this project pursuant to 23 U.S.C 327. Notice is hereby given that the FHWA has taken final agency actions subject to 23 U.S.C. 139(l)(1) by issuing approvals for the following highway project in the State of Idaho: US 20/26 Corridor Study, Junction I-84 to Eagle Road in Ada and Canyon Counties. The project will widen and improve approximately 15 miles of US 20/26 between Junction I-84 and Eagle Road to accommodate the forecasted increase in traffic through 2040. The project spans multiple local jurisdictions, including City of Boise, City of Eagle, City of Meridian, City of Nampa, Ada County, and Canyon County. The project would widen the highway from a two lane, mostly rural road; to an urban six travel lane divided median arterial with a minimum median width of four feet, including 23 signalized intersections. Additional ROW would be acquired so the road and intersections could be widened varying in width from 140 feet to 200 feet.

Improvements would also extend onto cross streets; for example, cross streets will be widened, right turn lanes may be added and sidewalks may wrap around and extend for a short distance onto the cross streets. Continuous Flow Intersections (CFI) will be included with the Proposed Action at the intersections of Middleton Road, Star Road, Linder Road, Meridian Road, Locust Grove Road, and Eagle Road. The project includes adding facilities for pedestrians and bicyclists (sidewalks and bike lanes, or a multi-use path), adding standard width roadway shoulders, signage, traffic signals, new access control measures, and improvements to intersections. The project will also relocate some utilities and make changes to irrigation canals. Facilities will be constructed to control and treat storm water runoff, which would include a combination of curbs, gutters, catch basins, underground seepage beds, roadside ditches, and/or surface ponds constructed within the proposed ROW.

The actions by the FHWA, and the laws under which such actions were taken, are described in the Environmental Assessment (EA) for the project approved on February 6, 2017 and a Finding of No Significant Impact (FONSI) issued on October 30, 2017. The EA, FONSI and other project records are available by contacting the FHWA or the Idaho Transportation Department at the addresses provided above. The EA and FONSI can be viewed and downloaded from the project website at http://apps.itd.idaho.gov/apps/us2026CorridorStudy/default.html.

This notice applies to all Federal agency decisions as of the issuance date of this notice and all laws under which such actions were taken, including but not limited to:

1. General: National Environmental Policy Act (NEPA) [42 U.S.C. 4321-4370h]; Federal-Aid Highway Act [Title 23] and associated regulations [CFR part 23].

2. Hazardous Materials: Comprehensive Environmental Response, Compensation, and Liability Act [42 U.S.C. 9601-9675]; Superfund Amendments and Reauthorization Act of 1986 [Pub. L. 99-499]; Resource Conservation and Recovery Act [42 U.S.C. 6901-6992(k)].

3. Air: Clean Air Act, [42 U.S.C. 7401-7671(q)](transportation conformity); Intermodal Surface Transportation Efficiency Act of 1991, Congestion Mitigation and Air Quality Improvement Program (Sec 1008 U.S.C. 149).

4. Noise: 23 U.S.C. 109(i) (Pub. L. 91-605) (Pub. L. 93-87).

5. Wildlife: Endangered Species Act [16 U.S.C. 1531-1544]; Fish and Wildlife Coordination Act [16 U.S.C. 661-667(e)]; Migratory Bird Treaty Act [16 U.S.C. 703-712]. Plant Protection Act [7 U.S.C. 7701 et seq.].

6. Historic and Cultural Resources: Section 106 of the National Historic Preservation Act of 1966, [54 U.S.C. 306108]; Archeological Resources Protection Act of 1977 [16 U.S.C. 470(aa)-470(mm)]; Archeological and Historic Preservation Act [16 U.S.C. 469-469 c-2]; Native American Grave Protection and Repatriation Act [25 U.S.C. 3001-3013].

7. Land: Section 4(f) of The Department of Transportation Act: [49 U.S.C. 303] Farmland Protection Policy Act (FPPA) [7 U.S.C. 4201-4209]. Solid Waste Disposal Act, as amended by the Resource Conservation and Recovery Act of 1976 (42 U.S.C. 6901, et seq.).

8. Social and Economic: Civil Rights Act of 1964 [42 U.S.C. 2000(d)-2000(d)(1)]; Uniform Relocation Assistance and Real Property Acquisition Act [42 U.S.C. 61].

9. Wetlands and Water Resources: Clean Water Act [33 U.S.C. 1251-1387 (Sections 319, 401, and 404)]; Flood Disaster Protection Act (42 U.S.C. 4012a 4106); Transportation Equity Act for the 21st Century (TEA-21) [23 U.S.C. 103(b)(6)(m), 133(b)(11)] (wetlands mitigation banking).

10. Executive Orders: E.O. 11990 Protection of Wetlands; E.O. 12898, Federal Actions to Address Environmental Justice in Minority Populations and Low Income Populations; E.O. 11514 Protection and Enhancement of Environmental Quality; E.O. 11988 Floodplain Management; E.O. 11593 Protection and Enhancement of Cultural Resources; E.O. 13007 Indian Sacred Sites; E.O. 13287 Preserve America; E.O. 13175 Consultation and Coordination with Indian Tribal Governments; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: December 7, 2017.
Peter J. Hartman,
FHWA Idaho Division Administrator, Boise, Idaho.

[FR Doc. 2017-26946 Filed 12-14-17; 8:45 am]

BILLING CODE 4910-RY-P